DEPARTMENT OF TRANSPORTATION

Federal Aviation Administration

Proposed Advisory Circular (AC) 34-1A, Fuel Venting and Exhaust Emissions Requirements for Turbine Engine Powered Airplanes

AGENCY: Federal Aviation Administration.

ACTION: Notice.

SUMMARY: This notice invites public comment on a proposed advisory circular (AC) that provides updated guidance for implementing the fuel venting and exhaust emission requirements for turbine engine powered airplanes.

DATES: Comments must be received on or before October 1, 2001.

ADDRESSES: Send all comments on the proposed AC to: Curtis Holsclaw, Manager of Emissions Division, AEE-300, Office of Environment and Energy, 800 Independence Avenue, SW., Washington, DC 20591. Comments may be examined at the above address between 7:30 a.m. and 4 p.m. weekdays, except Federal holidays.

FOR FURTHER INFORMATION CONTACT: Edward McQueen, Emissions Division, AEE-300, Office of Environment and Energy, 800 Independence Avenue, SW., Washington, DC 20591; telephone (202) 267-3560; E-mail: edward.mcqueen@faa.gov.

SUPPLEMENTARY INFORMATION:

Comments Invited

A copy of the subject AC may be obtained by contacting the person named above under FOR FURTHER INFORMATION CONTACT. Interested persons are invited to comment on the proposed AC by submitting such written data, views, or arguments, as they may desire. Commenters must identify the title of the AC and submit comments in duplicate to the address specified above. All comments received on or before the closing date for comments will be considered before issuing the final AC.

Discussion

Advisory Circular (AC) 34-1A, Fuel Venting and Exhaust Emission Requirements for Turbine Engine Powered Airplanes, has been written to provide section-by-section guidance on 14 CFR part 34 (part 34). The AC is intended to provide a better understanding of the provisions of the part 34, and to facilitate standardized implementation of the part 34 throughout the aviation industry. The AC contains updated information concerning the standards and requirements for aircraft fuel venting and engine emission certification, and presents explanatory information and guidance, as necessary, to identify acceptable means of compliance. The information contained in the AC sets forth acceptable means, but not the sole means, by which compliance may be shown with the requirements of part 34.

Pursuant to the Clean Air Act, sections 231 and 232, part 34 must conform to 40 CFR part 87 (part 87) as issued by the United States Environmental Protection Agency. Potential users of this proposed AC, as well as part 34, should be alert to any changes to part 87 that have not yet been included in either part 34 or this AC. In such instances the requirements of part 87 are considered controlling.

In addition to the section-by-section explanations, the AC includes three chapters that explain specific appendices from the International Civil Aviation Organization (ICAO), Annex 16, Volume II, Aircraft Engine Emissions. Since Annex 16 is specifically referenced in part 34, these chapters are included to make the AC a more complete reference source.

The ICAO appendices deal with detailed technical issues regarding instrumentation and measurement techniques and, as such, are relatively complex. Thus, they have been kept distinct from the rest of the AC as separate chapters. Typically, only those readers who are interested in specific equations and/or details regarding measurement techniques will need to read these sections.

Issued in Washington, DC, on July 26, 2001.
Carl E. Burleson,
Director of Environment and Energy.

[FR Doc. 01-19155 Filed 7-31-01; 8:45 am]

BILLING CODE 4910-13-M